DEPARTMENT OF HEALTH AND HUMAN SERVICES

Administration for Children and Families

[Program Announcement No. ACYF-PA-HS-02-01A]

Discretionary Announcement of the Availability of Funds and Request for Applications for Select Service Areas of Early Head Start; Correction

AGENCY: Administration for Children, Youth and Families, ACF, DHHS.

ACTION: Correction.

SUMMARY: This document contains a correction to the Notice that was published in the Federal Register on September 20, 2001.

On page 48475, Appendix A, Part II, in the State of Missouri, in the County of St. Charles, in the FY 2002 funding level column, delete “1,470,549” and add “1,497,549”.

On page 48476, Appendix A, Part II, in the State of New York, in the County of Bronx, in the FY 2002 funding level column, delete “1,334,471” and add “1,322,291”. In the State of New York, in the County of Cattaraugus, in the FY 2002 funding level column, delete “468,962” and add “511,079”. In the State of New York, in the County of Cattaraugus, in the FY 2002 funding level column, delete “450,808” and add “568,205”. In the State of New York, in the County of Chenango, in the FY 2002 funding level column, delete “468,962” and add “511,079”. In the State of New York, in the County of Monroe, in the FY 2002 funding level column, delete “1,995,614” and add “2,173,928”. In the State of New York, in the County of Rensselaer, in the FY 2002 funding level column, delete “670,221” and add “732,234”. In the State of New York, in the County of Steuben, in the FY 2002 funding level column, delete “329,700” and add “349,700”. In the State of New York, in the County of Westchester, in the FY 2002 funding level column, delete “941,224” and add “1,033,799”. In the State of New York, in the County of Erie, in the FY 2002 funding level column, delete “1,277,058” and add “1,381,901”. In the State of New York, in the County of Schenectady, in the FY 2002 funding level column, delete “1,057,663” and add “743,672”.

FOR FURTHER INFORMATION CONTACT: The ACYF Operations Center at 1-800-351-2293 or send an e-mail to ehs@lcgnet.com. You can also contact Sherri Ash, Early Head Start, Head Start Bureau at (202) 205-8562.

Dated: October 29, 2001.
James A. Harrell,
Acting Commissioner, Administration on Children, Youth and Families.

[FR Doc. 01-27610 Filed 11-1-01; 8:45 am]

BILLING CODE 4184-01-M